FARM CREDIT ADMINISTRATION

12 CFR Part 615

RIN 3052-AC42

Funding and Fiscal Affairs, Loan Policies and Operations, and Funding Operations; Mission-Related Investments, Rural Community Investments

AGENCY: Farm Credit Administration.

ACTION: Proposed rule; withdrawal.

SUMMARY: The Farm Credit Administration (FCA) withdraws its rule on Rural Community Investments that would have authorized System institutions to make certain investments in rural communities. The FCA terminates this rulemaking.

DATES: The proposed rule published June 16, 2008 (73 FR 33931) is withdrawn as of January 22, 2014.

FOR FURTHER INFORMATION CONTACT:

Dennis K. Carpenter, Senior Policy Analyst, Office of Regulatory Policy, Farm Credit Administration, 1501 Farm Credit Drive, McLean, VA, (703) 883-4434, TTY (703) 883-4056;

or

Mary Alice Donner, Senior Counsel, Office of General Counsel, Farm Credit Administration, McLean, VA 22102-5090, (703) 883-4020, TTY (703) 883-4056.

SUPPLEMENTARY INFORMATION: On June 16, 2008, the Farm Credit Administration published a proposed rule on Rural Community Investments (73 FR 33931). We received over 10,000 comment letters providing support for or opposition to the proposed rule. After review and consideration of the proposed rule, we have decided to withdraw it. We will continue to review mission-related investments and may issue a proposed rule in the future if we determine that a rule of general applicability is appropriate. For related information on this topic, interested parties may visit our Web site at www.fca.gov under the News and Events tab.

Dated: January 15, 2014.
Dale L. Aultman,
Secretary, Farm Credit Administration Board.

[FR Doc. 2014-01070 Filed 1-21-14; 8:45 am]

BILLING CODE 6705-01-P